DEPARTMENT OF STATE

[Public Notice 5490]

Bureau of Educational and Cultural Affairs (ECA) Request for Grant Proposals: Summer Language Institutes for American Youth

Announcement Type: New Grant.

Funding Opportunity Number: ECA/PE/C/PY-07-03.

Catalog of Federal Domestic Assistance Number: 00.000.

Application Deadline: October 5, 2006.

Executive Summary: The Youth Programs Division, Office of Citizen Exchanges of the Bureau of Educational and Cultural Affairs, announces an open competition for projects to provide foreign language instruction overseas for American high school students in Summer 2007. Public and private non-profit organizations meeting the provisions described in Internal Revenue Code section 26 U.S.C. 501(c)(3) may submit proposals to implement six-to eight-week summer institutes in China or in an Arabic-speaking country that offer U.S. high school students formal and informal language instruction through a comprehensive exchange experience.

I. Funding Opportunity Description

Authority

Overall grant making authority for this program is contained in the Mutual Educational and Cultural Exchange Act of 1961, as amended, Public Law 87-256, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic, and peaceful relations between the United States and the other countries of the world.” The funding authority for the program above is provided through legislation.

Purpose

The Bureau of Educational and Cultural Affairs (ECA) is supporting the participation of youth in intensive, substantive educational exchange opportunities that will promote language learning as well as engage the successor generation in a dialogue for greater understanding.

Promoting the study of critical languages among American youth is a vital element of America's security in the post-9/11 world and its engagement in the global economy, as well as promoting mutual understanding and respect between the people of the United States and the citizens of strategically important countries around the world.

The goals of the Summer Language Institute for American Youth are:

• To improve the ability of Americans to engage with the people of other countries through the shared language of the partner country;

• To develop a cadre of Americans with advanced linguistic skills and cultural understanding who are able to advance the international dialogue, promote the security of the United States, and compete effectively in the global economy;

• To provide a tangible incentive for the learning and use of foreign languages.

In order to achieve these goals, the Bureau is offering the opportunity for American secondary school students to gain language skills in Arabic or Chinese. ECA plans to award multiple grants for Summer Language Institutes. Organizations that wish to apply to implement institutes in more than one language must submit separate proposals for each language. Proposed institutes will be compared only against submissions for the same language. Applicants may apply for a grant between $100,000 and $250,000 in order to implement an overseas language institute between June and August 2007.

Through these institutes, high school students from the United States will spend six to eight weeks on a program abroad in the summer of 2007. The institutes will provide not only intensive language instruction in a classroom setting but will also provide language-learning opportunities through immersion in the cultural, social, educational, and home life of the partner country. The exchange program will enhance the participants' knowledge of the host country's history, culture, and political system.

Indicators of a Successful Program

• Pre- and post-institute language testing of participants will demonstrate a substantive increase in language skills.

• Participants will demonstrate “ for example, through surveys, essays, focus groups, or presentations “ a deeper understanding of the host country's culture, including its customs, beliefs, and practices.

• Alumni will continue their foreign language study and/or participate in other exchanges to the participating countries.

• Students and families from the host country who engage with the U.S. participants demonstrate an interest in learning more about the United States.

Capacity of Administering Organization

U.S. applicant organizations must have the necessary capacity in the partner country to implement the program through either its own offices or a partner institution. Organizations applying for this grant must demonstrate their (or their partners’) capacity for conducting projects of this nature, focusing on three areas of competency: (1) Provision of foreign language instruction programs and provision of educational and cultural exchange activities as outlined in this document; (2) age-appropriate programming for the target audience; and (3) experience in working with the proposed partner country or countries.

Country and Language Information

For all language study, participants will learn speaking, listening, reading, and writing, including new alphabets. The Bureau reserves the right to alter the list of eligible countries based on safety and security concerns.

For Arabic language exchanges: Applicant organizations should plan to send students to a country in North Africa, the Middle East, or the Gulf region, with the exception of Algeria, Iraq, Israel, Libya, Lebanon, Saudi Arabia, West Bank/Gaza, and Yemen. Students should learn Modern Standard Arabic in class and colloquial Arabic through informal study and through interaction with their host families and peers.

Students with basic language skills who are ready for intermediate instruction will gain the most from this immersion experience, but participants in the Arabic institutes may be beginning speakers who have had little or no instruction in the language. The delegation may be a mix of both groups, as long as the proposed institute makes explicit accommodation for learners of varying skill levels.

For Chinese language exchanges: Applicant organizations should plan to send students to Mainland China or Taiwan. Students must learn Mandarin in class. Teaching materials used in the program should be available in both simplified and traditional character versions. The Hanyu pinyin romanization system should be used.

Students with advanced beginner or intermediate language skills who are ready for further instruction will gain the most from an immersion experience. Participants in the Chinese institutes will have already studied the language formally at the time of application for at least one year. The proposed institute will make explicit accommodation for learners of varying skill levels.

Participant Selection

The grant recipient will recruit, screen, and select a group of students representing the ethnic, racial, socio-economic, and religious diversity of the United States. Students should have completed grade 9, 10, 11, or 12 by summer 2007, and must not be younger than 14 nor older than 18 by the start date of the institute. Selected students will also demonstrate suitability for an intensive exchange experience, including maturity, flexibility, and adaptability. The students' language skills at the start of the institute will meet the requirements for each language outlined above.

Institute Summary

Each six to eight-week summer institute overseas for high school students will focus on language study and cultural immersion and will include four to six hours per day of formal and informal language training, plus excursions, briefings and discussions on key issues.

The grant recipient will provide language instruction for a delegation of teenagers who are likely to have mixed skill levels in the language. While teaching conversational vocabulary will be necessary to help students cope with their immersion setting, classes should also provide formal instruction in grammar, vocabulary, and pronunciation, and will cover speaking, listening, reading, and writing.

During the exchange, the students will also have the opportunity to participate in activities designed to teach them about community life, citizen participation, and the culture and history of the host country. Activities should engage host country teenagers as much as possible. The program activities will introduce the students to the community—its leaders and institutions, the ways citizens participate in local government, and the resolution of societal problems—and will include educational excursions that serve to enhance the visitors” understanding of contemporary society, culture, media, political institutions, ethnic diversity, history, and environment of the region. ECA requires participation in a community service project that also involves youth of a similar age from the host country. Participants should also have opportunities to give presentations on their lives in the United States in community forums.

Since the purpose of the institute is to provide an immersion program for the language learners and increase their language skills, ECA strongly urges organizations to arrange homestays with local families for as much of the duration of the institute as possible, balancing this with time spent in a hotel or dormitory setting where the participants may be more inclined to speak English.

The delegation should have an adult accompany them on the international flight to the host country, and adult staff should be available to support the participants during the course of the institute.

Applicants must provide a plan of follow-up with alumni, such as by E-mail, through a Web site or weblog, and/or in person, primarily for the purpose of supporting the continuation of the students' language studies. Grant recipients should assist alumni in maintaining connections with organizations and individuals in the host country. The grant recipient will be expected to work in coordination with ECA to track the activities of alumni and their continued interest in studying the language.

School Partnerships

The Summer Language Institutes are well suited for involving a school partnership. Applicants may weave a school partnership component into their proposals as a way to deepen the institutional ties between schools in the United States and in the partner country. This approach is best suited for existing partnerships, but could also help further nascent relationships. The desirability of a school partnership component includes the prospect of offering institutional, rather than just individual, benefits; curriculum development; a “multiplier effect” or the opportunity to engage many people in the school community in the institute; and the building of sustainable relationships as school linkages span many years.

School partnerships may be included in a variety of ways. Students could travel to a partner school, either as a host site for the institute or to visit during the institute for a school tour, home hospitality, or a social activity. Teachers could team-teach in language or other subjects. Partner schools could offer follow-on activities for institute alumni such as digital video conferences, online language practice, implementation of joint projects (via DVC or online) that were initiated during the institute, e.g., an oral history of their communities or a water testing project.

Building the Summer Language Institute on a school partnership is not required but suggested for those applicants with these linkages. If you choose this approach, please make explicit mention of the benefits in your proposal.

Grant funding includes recruitment and selection of participants, orientation, travel, tuition and maintenance costs, educational enhancements, cultural and social activities, alumni activities, and administrative costs.

Note: All printed materials and formal oral communications should acknowledge the role of the U.S. Department of State's Bureau of Educational and Cultural Affairs. Drafts of printed materials developed for this program should be submitted to ECA for review and distribution as it sees fit. Copies of materials given to and prepared by the students should be provided to the ECA program office in a timely fashion.

Programs must comply with J-1 visa regulations. Please refer to the Proposal Submission Instructions, including the Project Objectives, Goals, and Implementation (POGI) document, for further information.

II. Award Information

Type of Award: Grant.

Fiscal Year Funds: 2007.

Approximate Total Funding: $1,000,000, pending availability of funds.

Approximate Number of Awards: 5.

Floor of Award Range: $100,000.

Ceiling of Award Range: $250,000.

Anticipated Award Date: Pending availability of funds, the proposed start date is January 20, 2007.

Anticipated Project Completion Date: Approximately 14 to 18 months after the start date, depending on the proposed program plan.

Additional Information: Pending successful implementation of this program and the availability of funds in subsequent fiscal years, ECA may renew these grants for two additional fiscal years.

III. Eligibility Information

III.1. Eligible applicants

Applications may be submitted by public and private non-profit organizations meeting the provisions described in Internal Revenue Code section 26 U.S.C. 501(c)(3).

III.2. Cost Sharing or Matching Funds

There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

Bureau grant guidelines require that organizations with less than four years experience in conducting international exchanges be limited to $60,000 in Bureau funding. ECA anticipates awarding grants in the range of $100,000 to $250,000 to support program and administrative costs required to implement this exchange program. Therefore, organizations with less than four years experience in conducting international exchanges are ineligible to apply under this competition. The Bureau urges applicants to provide maximum levels of cost sharing and funding in support of its programs.

IV. Application and Submission Information

Note: Please read the complete announcement before sending inquiries or submitting proposals. Once the RFGP deadline has passed, Bureau staff may not discuss this competition with applicants until the proposal review process has been completed.

IV.1 Contact Information to Request an Application Package

Please contact the Youth Programs Division (ECA/PE/C/PY), Room 568, U.S. Department of State, SA-44, 301 4th Street, SW., Washington DC 20547, Telephone (202) 203-7505, Fax (202) 203-7529, E-mail: LantzCS@state.gov to request a Solicitation Package. Please refer to the Funding Opportunity Number (ECA/PE/C/PY-07-03) located at the top of this announcement when making your request.

Alternatively, an electronic application package may be obtained from http://www.grants.gov. Please see section IV.3f for further information.

The Solicitation Package contains the Proposal Submission Instruction (PSI) document, which consists of required application forms and standard guidelines for proposal preparation.

It also contains the Project Objectives, Goals and Implementation (POGI) document, which provides specific information, award criteria, and budget instructions tailored to this competition.

Please specify Bureau Program Officer Carolyn Lantz and refer to the Funding Opportunity Number located at the top of this announcement on all other inquiries and correspondence.

IV.2. To Download a Solicitation Package Via Internet

The entire Solicitation Package may be downloaded from the Bureau's Web site at http://exchanges.state.gov/education/rfgps/menu.htm, or from the Grants.gov Web site at http://www.grants.gov.

Please read all information before downloading.

IV.3. Content and Form of Submission

Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 form that is part of the formal application package.

IV.3b. All proposals must contain an executive summary, proposal narrative and budget.

Please Refer to the Solicitation Package. It contains the mandatory Proposal Submission Instructions (PSI) document and the Project Objectives, Goals and Implementation (POGI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence To All Regulations Governing The J Visa: The Office of Citizen Exchanges of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving grants under this RFGP will be third parties “cooperating with or assisting the sponsor in the conduct of the sponsor's program.” The actions of grantee program organizations shall be “imputed to the sponsor in evaluating the sponsor's compliance with” 22 CFR part 62. Therefore, the Bureau expects that any organization receiving a grant under this competition will render all assistance necessary to enable the Bureau to fully comply with 22 CFR part 62 et seq.

The Bureau of Educational and Cultural Affairs places great emphasis on the secure and proper administration of Exchange Visitor (J visa) Programs and adherence by grantee program organizations and program participants to all regulations governing the J visa program status. Therefore, proposals should explicitly state in writing that the applicant is prepared to assist the Bureau in meeting all requirements governing the administration of Exchange Visitor Programs as set forth in 22 CFR part 62. If your organization has experience as a designated Exchange Visitor Program Sponsor, the applicant should discuss their record of compliance with 22 CFR part 62 et. seq., including the oversight of their Responsible Officers and Alternate Responsible Officers, screening and selection of program participants, provision of pre-arrival information and orientation to participants, monitoring of participants, proper maintenance and security of forms, record-keeping, reporting and other requirements.

The Office of Citizen Exchanges of ECA will be responsible for issuing any DS-2019 forms to foreign participants.

A copy of the complete regulations governing the administration of Exchange Visitor (J) programs is available at http://exchanges.state.gov or from: United States Department of State, Office of Exchange Coordination and Designation, ECA/EC/ECD—SA-44, Room 734, 301 4th Street, SW., Washington DC 20547, Telephone: (202) 203-5029, FAX: (202) 453-8640.

IV.3d.2 Diversity, Freedom and Democracy Guidelines: Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the `Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106—113 requires that the governments of the countries described above do not have inappropriate influence in the selection process. Proposals should reflect advancement of these goals in their program contents, to the full extent deemed feasible.

IV.3d.3. Program Monitoring and Evaluation: Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change.

Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3e. Please take the following information into consideration when preparing your budget:

IV.3e.1. Applicants must submit a comprehensive budget for the entire program. Grant requests should be at least $100,000 and should not exceed $250,000. There must be a summary budget as well as breakdowns reflecting both administrative and program budgets. Applicants may provide separate sub-budgets for each program component, phase, location, or activity to provide clarification.

Please refer to the POGI and the PSI documents in the Solicitation Package for complete budget guidelines and formatting instructions.

IV.3f. Application Deadline and Methods of Submission:

Application Deadline Date: October 5, 2006.

Reference Number: ECA/PE/C/PY-07-03.

Methods of Submission:

Applications may be submitted in one of two ways:

1. In hard-copy, via a nationally recognized overnight delivery service (i.e., DHL, Federal Express, UPS, Airborne Express, or U.S. Postal Service Express Overnight Mail, etc.), or

2. Electronically through http://www.grants.gov.

Along with the Project Title, all applicants must enter the above Reference Number in Box 11 on the SF-424 contained in the mandatory Proposal Submission Instructions (PSI) of the solicitation document.

IV.3f.1 Submitting Printed Applications: Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original, one fully-tabbed copy, and six copies of the application with Tabs A-E (for a total of 8 copies) should be sent to: U.S. Department of State, SA-44, Bureau of Educational and Cultural Affairs, Ref.: ECA/PE/C/PY-07-03, Program Management, ECA/EX/PM, Room 534, 301 4th Street, SW., Washington, DC 20547.

Along with the Project Title, all applicants must enter the above Reference Number in Box 11 on the SF-424 contained in the mandatory Proposal Submission Instructions (PSI) of the solicitation document.

Applicants must also submit the executive summary, proposal narrative, budget section, and any important appendices as e-mail attachments in Microsoft Word and Excel to the following e-mail address: LantzCS@state.gov. In the E-mail message subject line, include the name of the applicant organization and the partner country. The Bureau will transmit these files electronically to the Public Affairs Sections of the relevant U.S. Embassies for review.

IV.3f.2—Submitting Electronic Applications: Applicants have the option of submitting proposals electronically through Grants.gov (http://www.grants.gov). Complete solicitation packages are available at Grants.gov in the “Find” portion of the system. Please follow the instructions available in the “Get Started” portion of the site (http://www.grants.gov/GetStarted).

Applicants have until midnight (12 a.m.), Washington, DC, time, of the closing date to ensure that their entire applications have been uploaded to the grants.gov site. Applications uploaded to the site after midnight of the application deadline date will be automatically rejected by the grants.gov system, and will be technically ineligible.

Applicants will receive a confirmation e-mail from grants.gov upon the successful submission of an application. ECA will not notify you upon receipt of electronic applications.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (grants) resides with the Bureau's Grants Officer.

Review Criteria

Please see proposal review criteria in the accompanying Project Objectives, Goals, and Implementation (POGI) document.

VI. Award Administration Information

VI.1a. Award Notices

Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2 Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information:

http://www.whitehouse.gov/omb/grants:

http://exchanges.state.gov/education/grantsdiv/terms.htm#articleI

VI.3. Reporting Requirements

You must provide ECA with a hard copy original plus two copies of the following reports:

1. A final program and financial report no more than 90 days after the expiration of the award;

2. Interim program and financial reports that include information on the progress made on the program plan and program results to date.

Grantees will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VI.4. Program Data Requirements

Organizations awarded grants will be required to maintain specific data on program participants and activities in an electronically accessible database format that can be shared with the Bureau as required. As a minimum, the data must include the following:

1. Name, address, contact information and biographic sketch of all persons who travel internationally on funds provided by the grant or who benefit from the grant funding but do not travel.

2. Itineraries of international and domestic travel, providing dates of travel and cities in which any exchange experiences take place. Final schedules for in-country and U.S. activities must be received by the ECA Program Officer at least three work days prior to the official opening of the activity.

VII. Agency Contacts

For questions about this announcement, contact: Carolyn Lantz, Youth Programs Division, Office of Citizen Exchanges, Bureau of Educational and Cultural Affairs, ECA/PE/C/PY-07-03, U.S. Department of State, SA-44, 301 4th Street, SW., Room 568, Washington, DC 20547, Telephone (202) 203-7505, Fax (202) 203-7529, E-mail LantzCS@state.gov.

All correspondence with the Bureau concerning this RFGP should reference the above title and number ECA/PE/C/PY-07-03.

Please read the complete Federal Register announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: August 3, 2006.
Dina Habib Powell,
Assistant Secretary for Educational and Cultural Affairs, Department of State.

[FR Doc. 06-6837 Filed 8-9-06; 8:45 am]

BILLING CODE 4710-05-P